DEPARTMENT OF TRANSPORTATION

Federal Aviation Administration

14 CFR Part 71

[Airspace Docket No. 99-AGL-42]

Modification of Class E Airspace; Marquette, MI; Revocation of Class E Airspace; Sawyer, MI, and K.I. Sawyer, MI

AGENCY: Federal Aviation Administration (FAA), DOT.

ACTION: Final rule; correction.

SUMMARY: On December 3, 1999, the FAA published a final rule modifying Class E airspace at Marquette, MI, and revoking the Class E airspace at Sawyer, MI, and K.I. Sawyer, MI. An integral part of this airspace action is the decommissioning of the Marquette (MQT), MI, VHF Omnidirectional Range/Distance Measuring Equipment (VOR/DME) and commissioning of the new Gwinn (GWI), MI, VOR/DME. On February 2, 2000, the effective date of this final rule was delayed until further notice due to the delay in the commissioning, due to construction, of the new Gwinn VOR/DME. On May 2, 2000, the effective date of this final rule was established as August 10, 2000, concurrent with the commissioning of the GWI VOR/DME. Subsequent to May 2, 2000, the decision was made to change the name of the GWI VOR/DME to the Sawyer (SAW) VOR/DME. This action makes that name correction.

EFFECTIVE DATE: 0901 UTC, August 10, 2000.

FOR FURTHER INFORMATION CONTACT: Denis C. Burke, Air Traffic Division, Airspace Branch, AGL-520, Federal Aviation Administration, 2300 East Devon Avenue, Des Plaines, Ilinois 60018, telephone (847) 294-7568.

SUPPLEMENTARY INFORMATION: On December 3, 1999, the FAA published a final rule modifying Class E airspace at marquette, MI, and revoking the Class E airspace at Sawyer, MI, and K.I. Sawyer, MI (64 FR 67713). Due to a delay in construction, and subsequent commissioning, of the new Gwinn, MI, VOR/DME this airspace action could not be implemented on the original effective date. Accordingly, the effective date of the modification of the Class airspace at Marquette, MI, and the revocation of the Class E airspace at Sawyer, MI, and K.I. Sawyer, MI, was delayed until further notice (65 FR 4871).

Subsequently, the new effective date of the final rule modifying Class E airspace at Marquette, MI, and revoking the Class E airspace at Sawyer, MI, and K.I. Sawyer, MI was established as August 10, 2000 (65 FR 25440). After establishing this new effective date, a decision was made to change the name of the GWI VOR/DME to the SAW VOR/DME to more accurately reflect the location of the navigational aid. Accordingly, all references to the Gwinn (GI), MI, VOR/DME are changed to the Sawyer (SAW), MI, VOR/DME in the final rule modifying Class E airspace at Marquette, MI, and revoking the Class E airspace at Sawyer, MI, and K.I. Sawyer, MI (64 FR 67713).

Issued in Des Plaines, Illinois on June 15, 2000.
Christopher R. Blum,
Manager, Air Traffic Division.

[FR Doc. 00-16334 Filed 6-27-00; 8:45 am]

BILLING CODE 4910-13-M